DEPARTMENT OF LABOR

Occupational Safety and Health Administration

[Docket No. OSHA-2010-0059]

RIN 1218-AC51

Preventing Backover Injuries and Fatalities

AGENCY: Occupational Safety and Health Administration (OSHA), Labor.

ACTION: Notice of stakeholder meetings.

SUMMARY: OSHA invites interested parties to participate in informal stakeholder meetings on preventing backover injuries and fatalities. OSHA plans to use information gathered at these meetings to evaluate backover risks across various industries, whether or how backovers may be prevented by new technology or other methods, and how effective those measures are.

DATES: Dates and locations for the stakeholder meetings are:

1. January 8, 2013 at 9:00 a.m. and January 9, 2013 at 9:00 a.m. in Washington, DC.

2. February 5, 2013 at 9:00 a.m., 2:00 p.m., and 7:00 p.m. in Arlington, TX.

ADDRESSES: The meeting locations are:

1. Frances Perkins Building, Department of Labor, Room C-5515 1A & 1B for January 8 and Room C-5521 for January 9, 200 Constitution Avenue NW., Washington, DC.

2. University of Texas at Arlington, OSHA Education Center, Bluebonnet Ballroom in the University Center, 300 W. First St., Arlington, Texas.

I. Registration

Submit your notice of intent to participate in one of the scheduled meetings by one of the following:

• Electronic. Register at https://www2.ergweb.com/projects/conferences/osha/register-osha-backover.htm Web site (follow the instructions online).

• Facsimile. Fax your request to: (781) 674-2906, and label it “Attention: OSHA Backover Stakeholder Meeting Registration.”

• Regular mail, express delivery, hand (courier) delivery, and messenger service. Send your request to: Eastern Research Group, Inc., 110 Hartwell Avenue, Lexington, MA 02421; Attention: OSHA Backover Stakeholder Meeting Registration.

• Phone. Telephone registration number is (781) 674-7374.

II. Meetings

Specific information on the schedule and location of each meeting can be found on the Backover Web site of OSHA's contractor Eastern Research Group at https://www2.ergweb.com/projects/conferences/osha/register-osha-backover.htm.

FOR FURTHER INFORMATION CONTACT: Information regarding this notice is available from the following sources:

• Press inquiries. Contact Frank Meilinger, Director, OSHA Office of Communications, Room N-3647, U.S. Department of Labor, 200 Constitution Avenue NW., Washington, DC 20210; telephone: (202) 693-1999.

• General and technical information. Contact Meghan Smith, OSHA Directorate of Construction, Room N-3467, U.S. Department of Labor, 200 Constitution Avenue NW., Washington, DC 20210, telephone: (202) 693-2020.

• Copies of this Federal Register notice. Electronic copies are available at http://www.regulations.gov. This Federal Register notice, as well as news releases and other relevant information, also are available on the OSHA web page at http://www.osha.gov.

SUPPLEMENTARY INFORMATION:

I. Background

BLS reported that 79 workers were killed in 2011 when backing vehicles or mobile equipment, especially those with an obstructed view to the rear, crushed them against an object and/or struck or rolled over them. A search of OSHA's Integrated Management Information System database identified 358 fatal backover incidents from 2005 to 2010. Of these deaths, 216 occurred in general industry, shipyard employment, maritime and agriculture industries, and 142 occurred in construction. OSHA has also presented information on backover hazards on its Web page: http://www.osha.gov/doc/topics/backover/index.html. While some backover fatalities are caused by forklifts, the Agency is focusing on vehicles with obstructed views to the rear. Because forklifts do not, in general, have an obstructed view to the rear, the Agency is not attempting to collect more information on forklifts and similar equipment in the stakeholder meetings.

OSHA published a Request for Information (RFI) on backover hazards in the Federal Register on March 29, 2012 (77 FR 18973). The RFI was published jointly with a notice on hazards in Reinforced Concrete in Construction. OSHA received comments from 32 individuals and organizations, and these are available on www.regulations.gov under docket OSHA-2010-0059.

Many commercial or construction vehicles have audible alarms that sound when the vehicle is put into reverse and backs up. OSHA has three construction safety standards that require backup alarms or spotters when backing a vehicle with an obstructed view to the rear: 29 CFR § 1926.601(b)(4) covers motor vehicles; § 1926.602(a)(9)(ii) covers material handling equipment; § 1926.952(a)(3) covers equipment used in power generation and transmission construction. For general industry, § 1910.269(p)(1)(ii) provides similar requirements for vehicular equipment operated at off-highway jobsites.

New technologies have been developed to address backing hazards, including: Cameras and proximity sensing technology, such as radar and sonar, and new types of audible alarms that focus the alarm's sound or are combined with lights. In addition, internal traffic plans that control the flow of traffic and limit backing can help prevent backovers. The Agency is considering whether these technologies or other approaches, including training for drivers and spotters, can better address the risks of backing equipment which have an obstructed view to the rear.

State Regulations: Virginia and Washington

Washington and Virginia have their own state occupational safety and health programs and have issued regulations designed to prevent backover incidents. In Virginia, vehicles with an obstructed view to the rear, whether used in construction or general industry, must have a backup alarm audible above the surrounding noise level. The driver must also have the assistance of a camera, work with a spotter, or “visually determine that no employee is in the path of the vehicle” prior to backing (16VAC25-97-30).

The State of Washington's regulation is limited in scope to dump trucks. Washington's rule requires “an operable mechanical device that provides the driver a full view behind the dump truck [to be] used, such as a video camera,” or spotters when using dump trucks when people will be walking behind them (WAC 296-155-610(2)(f)).

II. Stakeholder Meetings

Stakeholder meetings are meant to provide an opportunity for affected employers and employees, as well as safety professionals and equipment makers, to inform OSHA of the best means to address the risks of backovers. The Agency is interested in collecting information for all industries on:

• The risks of backovers;

• Current measures taken to address backover hazards;

• The effectiveness of those measures;

• Information about the number of vehicles or employees affected; and

• The costs of protective measures.

III. Public Participation

Each stakeholder meeting will have 15-20 active participants with room for 20-30 observers. Meetings are expected to last about two hours. Stakeholders may register as “participants” or “observers.” Participants will actively participate in discussions and present their views and experience, while observers typically will not have an opportunity to speak unless time permits at the end of the meeting. Stakeholders may only register as participants in one of the two sessions. Each meeting will have the same questions or agenda. If too few stakeholders register for a particular session, the Agency will eliminate that session and combine it with another and inform registrants of the change. The meetings will be conducted as group discussions, with individual stakeholders describing what occurs in their business or industry with regard to backover hazards. To facilitate as much group interaction as possible, formal presentations will not be permitted.

OSHA staff will be present to take part in the discussions. Logistics for the meetings are being managed by Eastern Research Group (ERG). Participants and observers must register to attend by contacting ERG via one of the methods described at the beginning of this notice. Participants and observers will be registered on a first-come, first-serve basis. If there is room at the meeting, stakeholders or the general public can attend as observers if they have not pre-registered. Any changes to the schedule of meetings will be noted at the ERG Web site.

OSHA will have a facilitator at the stakeholder meetings to help guide the discussion and record notes on flip charts. ERG provides a summary of comments at the meeting which OSHA will place on the backover Web page at http://www.osha.gov/doc/topics/backover/index.html. In order to encourage a free exchange of views, information, and ideas, these notes will not identify the individuals who make comments. ERG makes an audio recording of each session to ensure that the summary notes are accurate, but these recordings will not be transcribed or published. Although members of the press may attend stakeholder meetings, the Agency asks them not to quote speakers by name or affiliation in any published reports, as the intent of the meeting is informational only. An example of stakeholder summary comments can be found here: http://www.osha.gov/recordkeeping/pdf/Modernization_DC_5-25-10.pdf.

IV. Authority and Signature

This document was prepared under the direction of David Michaels, Ph.D., MPH, Assistant Secretary of Labor for Occupational Safety and Health, U.S. Department of Labor, pursuant to sections 4, 6, and 8 of the Occupational Safety and Health Act of 1970 (29 U.S.C. 653, 655, 657), 29 CFR part 1911, and Secretary's Order 1-2012 (77 FR 3912).

Signed at Washington, DC, on December 12, 2012.
David Michaels,
Assistant Secretary of Labor for Occupational Safety and Health.

[FR Doc. 2012-30315 Filed 12-14-12; 8:45 am]

BILLING CODE 4510-26-P